DEPARTMENT OF THE TREASURY

Internal Revenue Service

26 CFR Part 1

[TD 9260]

RIN 1545-BF46

Application of Separate Limitations to Dividends From Noncontrolled Section 902 Corporations; Correction

AGENCY: Internal Revenue Service (IRS), Treasury.

ACTION: Correction to temporary regulations.

SUMMARY: This document contains corrections to temporary regulations that were published in the Federal Register on Tuesday, April 25, 2006 (71 FR 24516) regarding the application of separate foreign tax credit limitations to dividends received from noncontrolled section 902 corporations under section 904(d)(4).

DATES: These corrections are effective April 25, 2006.

FOR FURTHER INFORMATION CONTACT: Ginny Chung, (202) 622-3850 (not a toll-free call).

SUPPLEMENTARY INFORMATION:

Background

The temporary regulations (TD 9260) that are the subject of this correction are under section 904 of the Internal Revenue Code.

Need for Correction

As published, (TD 9260) contains errors that may prove to be misleading and are in need of clarification.

Correction of Publication

Accordingly, the publication of the temporary regulations (TD 9260) which was the subject of FR Doc. 06-3882, is corrected as follows:

§ 1.904-4 [Corrected]

1. On page 24530, column 2, § 1.904-4, Instructional Par. 11., number 3, the language “3. In paragraph (e)(5)(iii), remove the language “and paragraph (9) of this section” and add the language “paid in taxable years beginning before January 1, 2003” in its place.” is corrected to read “3. In paragraph (e)(5)(iii), remove the language “and paragraph (g) of this section” and add the language “paid in taxable years beginning before January 1, 2003” in its place.”

Guy R. Traynor,
Branch Chief, Publications and Regulations Branch, Legal Processing Division, Associate Chief Counsel (Procedure and Administration).

[FR Doc. E6-13425 Filed 8-18-06; 8:45 am]

BILLING CODE 4830-01-P